DEPARTMENT OF THE INTERIOR

Bureau of Land Management

[CA 670 1232 FH]

Final Supplementary Rules on Public Land in California

AGENCY: Bureau of Land Management, Interior.

ACTION: Final supplementary rules for payment of special recreation permit fees immediately upon arrival at the Imperial Sand Dunes Recreation Area.

SUMMARY: This notice contains final supplementary rules which will apply to the public lands within the El Centro Resource Field Office, California Desert District, Imperial County, California. The Bureau of Land Management's (BLM) El Centro Field Office will be enforcing the new supplementary rules. The supplementary rules require the payment of special recreation permit fees immediately upon arrival at the Imperial Sand Dunes Recreation Area. Any primary vehicle while on public lands within the Planning Area Boundary or the recreation area must display a weekly or seasonal permit for the areas identified above. The definition of a primary vehicle is described in the Federal Register, Vol. 63, No. 242 on Thursday, December 17, 1998, page 69,647, paragraph 3. It stated “A primary transportation vehicle is a street legal vehicle used for transportation to the site.” The rules are to enhance the Imperial Sand Dunes Recreation Fee Program and provide revenue for resource protection, and for public health and safety.

EFFECTIVE DATE: The final rules are effective on September 22, 2004.

ADDRESSES: Mail: Bureau of Land Management, El Centro Field Office, 1661 S. 4th St., El Centro, CA 92243.

Personal or messenger delivery: Bureau of Land Management, El Centro Field Office, 1661 S. 4th St., El Centro, CA 92243.

Internet e-mail: Neil_Hamada@ca.blm.gov.

FOR FURTHER INFORMATION CONTACT: Neil Hamada, Dunes Manager, Imperial Sand Dunes Recreation Area, Bureau of Land Management, El Centro Field Office, 1661 S. 4th St., El Centro, CA 92243, (760) 337-4451.

SUPPLEMENTARY INFORMATION:

I. Comments

The proposed supplementary rule was published on November 20, 2003 [68 FR 65471] informing the public that comments on the rule were due on December 22, 2003. The BLM received nine letters. Some of these letters contained comments on several issues. The following is a summary of the comments:

• Six comments were beyond the scope of this proposed rule.

• Four comments stated that purchasing the passes was inconvenient.

—BLM Response—BLM has established off site sale for visitor convenience.

• One comment stated that first time visitors will not know where to purchase passes.

—BLM Response—Signs are located along all the major entry points.

• Three comments opposed the rule.

—BLM Response—Comment noted.

• One comment stated that the rule will cause traffic congestion.

—BLM Response—The rule's implementation will not change current traffic patterns or add additional congestion. The BLM will continue to enfore permit compliance in the same manner, through check points and campsite visits. The BLM does not plan to changes any activities to alter traffic patterns.

• One comment wanted to keep the current rule.

—BLM Response—The rule is needed to enhance fee compliance to provide revenue for resource protection, and for public health and safety. The current rule allows visitors a 30 minute grace period before purchasing a permit. Due to the high levels of visitation (over one million per year), it is inefficient for law enforcement wait 30 minutes for each visitor to comply with the permit regulations. The new rule will allow law enforcement to efficiently enforce permit compliance as visitors arrive at fee checkpoints.

II. Background

These supplementary rules are consistent with the preferred alternative in the Imperial Sand Dunes Recreation Area Management Plan (RAMP). Special Recreation Permit fees were initially implemented in January 1999. Supplementary rules were published on December 17, 1998 [63 FR 69646] establishing those fees. These additional proposed supplementary rules were published in the Federal Register on November 20, 2003 [68 FR 65471] to clarify the existing rules, and are to be appended to the 1998 supplementary rules.

III. Discussion of Supplementary Rules

The BLM has regularly recorded over one million visits to the Dunes on an annual basis. Implementing these supplementary rules would require the payment of special recreation permit fees immediately upon arrival at the Imperial Sand Dunes Recreation Area. Any primary vehicle while on public lands within the Planning Area Boundary or the recreation area will be required to display a weekly or seasonal permit for these areas. The supplementary rules are consistent with the preferred alternative in the Imperial Sand Dunes RAMP, and only clarify when the public needs to pay their special recreation permit fee. The RAMP's objectives are to provide the public a safe and enjoyable experience while visiting the dunes and to protect the BLM employees and volunteers maintaining the natural resources. The goals are to reduce or eliminate assaults, drug use, driving under the influence of drugs or alcohol, theft, and any unruly behavior that may lead to any of these, and to encourage users to obey all safety rules and regulations, so as to prevent accidents. The implementation of special recreation permit fees in the dunes will provide the resources necessary to meet these goals and objectives.

These supplementary rules will apply to the public lands within the area identified in the Imperial Sand Dunes Recreation Area Management Plan as the Planning Area Boundary, Mammoth Wash Management Area, North Algodones Dunes Wilderness Management Area, Gecko Management Area, Glamis Management Area, Adaptive Management Area, Ogilby Management Area, Dune Buggy Flats Management Area, and the Buttercup Management Area. BLM has determined these supplementary rules are necessary to enhance the Imperial Sand Dunes Recreation Fee Program and to provide revenue for resource protection and for public health and safety.

IV. Procedural Matters

Executive Order 12866, Regulatory Planning and Review

These supplementary rules are not a significant regulatory action and are not subject to review by Office of Management and Budget under Executive Order 12866. These supplementary rules will not have an effect of $100 million or more on the economy. They are not intended to affect commercial activity, but merely clarify when a fee that is already charged must be paid.

The supplementary rules will not adversely affect, in a material way, the economy, productivity, competition, jobs, the environment, public health or safety, or state, local, or tribal governments or communities. The proposed supplementary rules will not create a serious inconsistency or otherwise interfere with an action taken or planned by another agency. The supplementary rules will not alter the budgetary effects of entitlements, grants, user fees, or loan programs or the right or obligations of their recipients; nor will they raise novel legal or policy issues.

National Environmental Policy Act

BLM has determined that these final supplementary rules requiring the payment of special recreation permit fees immediately upon arrival at Imperial Sand Dunes Recreation Area and certain other locations are purely administrative in nature. Therefore, they are categorically excluded from environmental review under section 102(2)(C) of the National Environmental Policy Act, pursuant to 516 Departmental Manual (DM), Chapter 2, Appendix 1. In addition, the proposed rules do not meet any of the 10 criteria for exceptions to categorical exclusions listed in 516 DM, Chapter 2, Appendix 2. Pursuant to Council on Environmental Quality regulations (40 CFR 1508.4) and the environmental policies and procedures of the Department of the Interior, the term “categorical exclusions” means a category of actions that do not individually or cumulatively have a significant effect on the human environment, that have been found to have no such effect in procedures adopted by a Federal agency, and for which neither an environmental assessment nor an environmental impact statement is required.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The supplementary rule does not pertain specifically to commercial or governmental entities of any size, but to public recreational use of specific public lands. It merely makes clear when a fee that is already charged must be paid. Therefore, BLM has determined under the RFA that the final supplementary rule would not have a significant economic impact on a substantial number of small entities.

Small Business Regulatory Enforcement Fairness Act (SBREFA)

The supplementary rules do not constitute a “major rule” as defined at 5 U.S.C. 804(2). Again, the supplementary rules merely clarify when a fee that is already charged must be paid. The supplementary rules have no effect on business—commercial or industrial—use of the public lands.

Executive Order 12630, Governmental Actions and Interference With Constitutionally Protected Property Rights (Takings)

The final supplementary rules do not represent a government action capable of interfering with constitutionally protected property rights. They merely clarify when a fee that is already charged must be paid. Therefore, the Department of the Interior has determined that the final rules would not cause a taking of private property or require further discussion of takings implications under this Executive Order.

Executive Order 13132, Federalism

The final rules will not have a substantial direct effect on the States, on the relationship between the national government and the States, or on the distribution of power and responsibilities among the various levels of government. They merely clarify when a fee that is already charged must be paid. Therefore, in accordance with Executive Order 13132, BLM has determined that these final rules do not have sufficient Federalism implications to warrant preparation of a Federalism Assessment.

Executive Order 12988, Civil Justice Reform

Under Executive Order 12988, the Office of the Solicitor has determined that these final rules would not unduly burden the judicial system and that it meets the requirements of sections 3(a) and 3(b)(2) of the Order.

Executive Order 13175, Consultation and Coordination With Indian Tribal Governments [Replaces Executive Order 13084]

In accordance with Executive Order 13175, we have found that the final supplementary rules do no include policies that have tribal implications. They merely clarify when a fee that is already charged must be paid.

Paperwork Reduction Act

These final rules do not contain information collection requirements that the Office of Management and Budget must approve under the Paperwork Reduction Act of 1995, 44 U.S.C. 3501 et seq.

Author

The principal author of the final rules is Chief Area Ranger Robert Zimmer, Bureau of Land Management, El Centro Field Office, California. Final Rules for Payment of Special Recreation Permit Fees Immediately Upon Arrival at the Imperial Sand Dunes Recreation Area Under 43 CFR 8365.1-8365.6, the Bureau of Land Management will enforce the following final rules on the public lands within the area identified as defined in the Imperial Sand Dunes Recreation Area Management Plan as the Planning Area Boundary, Mammoth Wash Management Area, North Algodones Dunes Wilderness Management Area, Gecko Management Area, Glamis Management Area, Adaptive Management Area, Ogilby Management Area, Dune Buggy Flats Management Area, and the Buttercup Management Area. These lands are within the Imperial Sand Dunes Special Recreation Management Area within the lands managed by the El Centro Field Office of the California Desert District, California. You must follow these rules:

Sec. 1 When must visitors pay the special recreation permit fees?

You must pay the special recreation permit fees immediately upon arrival.

Sec. 2 How must permits be displayed?

Any primary vehicle while on public lands within the Planning Area Boundary or the recreation area must display a weekly or seasonal permit for the areas described above.

Sec. 3 What are the penalties for violations of these rules?

Under section 303(a) of the Federal Land Policy and Management Act of 1976 (43 U.S.C. 1733(a)) and 43 CFR 8360.0-7 if you violate any of these final rules on public lands within the boundaries established in the rules, you may be tried before a United States Magistrate and fined no more than $1000 or imprisoned for no more than 12 months, or both. Such violations may also be subject to the enhanced fines provided for by 18 U.S.C. 3571.

Dated: June 7, 2004.
Mike Pool,
California State Director.

[FR Doc. 04-21261 Filed 9-21-04; 8:45 am]

BILLING CODE 4310-40-P